DEPARTMENT OF TRANSPORTATION

Federal Aviation Administration

Youth Access to American Jobs in Aviation Task Force; Notice of Public Meeting

AGENCY: Federal Aviation Administration (FAA), Department of Transportation.

ACTION: Notice of public meeting.

SUMMARY: This notice announces a meeting of the Youth Access to American Jobs in Aviation Task Force (YIATF).

DATES: The meeting will be held on September 13, 2021, from 9:00 a.m.-3:30 p.m. Eastern Daylight Time.

Requests for accommodations to a disability must be received by August 30, 2021.

Requests to submit written materials to be reviewed during the meeting must be received no later than August 30, 2021.

ADDRESSES: The meeting will be held virtually. Members of the public who wish to observe the virtual meeting may access the event live on the FAA's Twitter, Facebook and YouTube channels. For copies of meeting minutes along with all other information, please visit the YIATF internet website at https://www.faa.gov/regulations_policies/rulemaking/committees/documents/index.cfm/committee/browse/committeeID/797.

FOR FURTHER INFORMATION CONTACT: Ms. Aliah Duckett, Federal Aviation Administration, by email at S602YouthTaskForce@faa.gov or phone at 202-267-8361. Any committee-related request should be sent to the person listed in this section.

SUPPLEMENTARY INFORMATION:

I. Background

The FAA established the Task Force by charter on October 3, 2019, under Public Law 115-254. The Task Force is required by statute to develop and provide independent recommendations and strategies to the FAA Administrator to: (1) Facilitate and encourage high school students in the United States to enroll in and complete career and technical education courses, including science, technology, engineering, and mathematics (STEM), that will prepare them to pursue a course of study related to an aviation career at an institution of higher education, a community college, or trade school; (2) facilitate and encourage these students to enroll in a course of study related to an aviation career, including aviation manufacturing, engineering and maintenance, at an institution of higher education, including a community college or trade school; and (3) identify and develop pathways for students to secure registered apprenticeships, workforce development programs, or careers in the aviation industry of the United States.

II. Agenda

At the meeting, the agenda will cover the following topics:

• Welcome/Opening Remarks

• Approval of Previous Meeting Minutes

• Subcommittee Presentations

• Review of Action Items

• Closing Remarks

A detailed agenda will be posted on the YIATF internet website address listed in the ADDRESSES section at least 15 days in advance of the meeting. Copies of the meeting minutes will also be available on the YIATF internet website.

III. Public Participation

The meeting will be open to the public and livestreamed. Members of the public who wish to observe the virtual meeting can access the livestream on the FAA social media platforms listed in the ADDRESSES section on the day of the event.

The U.S. Department of Transportation is committed to providing equal access to this meeting for all participants. If you need alternative formats or services because of a disability, such as sign language, interpretation, or other ancillary aids, please contact the person listed in the FOR FURTHER INFORMATION CONTACT section.

The FAA is not accepting oral presentations at this meeting due to time constraints. However, the public may present written statements to the Task Force by providing a copy to the Designated Federal Officer via the email listed in the FOR FURTHER INFORMATION CONTACT section.

Angela O. Anderson,
Director, Regulatory Support Division, Office of Rulemaking, Federal Aviation Administration.

[FR Doc. 2021-14384 Filed 7-6-21; 8:45 am]

BILLING CODE 4910-13-P